CONSUMER PRODUCT SAFETY COMMISSION

Commission Agenda and Priorities; Notice of Hearing

AGENCY: U.S. Consumer Product Safety Commission.

ACTION: Notice of public hearing.

SUMMARY: The U.S. Consumer Product Safety Commission (Commission) will conduct a public hearing to receive views from all interested parties about the Commission's agenda and priorities for fiscal year 2019, which begins on October 1, 2018, and for fiscal year 2020, which begins on October 1, 2019. We invite members of the public to participate. Written comments and oral presentations concerning the Commission's agenda and priorities for fiscal years 2019 and 2020 will become part of the public record.

DATES: The hearing will begin at 10 a.m. on April 11, 2018, and will conclude the same day. Requests to make oral presentations and the written text of any oral presentations must be received by the Office of the Secretary not later than 5 p.m. Eastern Daylight Time (EDT) on March 28, 2018. The Commission will accept written comments as well. These also must be received by the Office of the Secretary not later than 5 p.m. EDT on March 28, 2018.

ADDRESSES: The hearing will be in the Hearing Room, 4th Floor of the Bethesda Towers Building, 4330 East-West Highway, Bethesda, MD 20814. Requests to make oral presentations, and texts of oral presentations and written comments should be captioned, “Agenda and Priorities FY 2019 and/or 2020,” and sent by electronic mail (email) to: cpsc-os@cpsc.gov, or mailed or delivered to the Office of the Secretary, U.S. Consumer Product Safety Commission, 4330 East-West Highway, Bethesda, MD 20814. Requests and written comments must be received no later than 5 p.m. EDT on March 28, 2018.

FOR FURTHER INFORMATION CONTACT: For information about the hearing, or to request an opportunity to make an oral presentation, please send an email, call, or write Alberta E. Mills, Office of the Secretary, U.S. Consumer Product Safety Commission, 4330 East-West Highway, Bethesda, MD 20814; email: cpsc-os@cpsc.gov; telephone: (301) 504-7923; facsimile: (301) 504-0127. An electronic copy of the CPSC's budget request for fiscal year 2019 and the CPSC's 2018-2022 Strategic Plan can be found at: www.cpsc.gov/about-cpsc/agency-reports/performance-and-budget.

SUPPLEMENTARY INFORMATION:

I. Background

Section 4(j) of the Consumer Product Safety Act (CPSA) (15 U.S.C. 2053(j)) requires the Commission to establish an agenda for action under the laws the Commission administers, and to the extent feasible, select priorities for action at least 30 days before the beginning of each fiscal year. Section 4(j) of the CPSA provides further that before establishing its agenda and priorities, the Commission conduct a public hearing and provide an opportunity for the submission of comments.

II. Oral Presentations and Submission of Written Comments

The Commission is preparing the agency's fiscal year 2019 Operating Plan and fiscal year 2020 Congressional Budget Request. Fiscal year 2019 begins on October 1, 2018, and fiscal year 2020 begins on October 1, 2019. Through this notice, the Commission invites the public to comment on the following questions:

1. What are the priorities the Commission should consider emphasizing and dedicating resources toward in the fiscal year 2019 Operating Plan and/or the fiscal year 2020 Congressional Budget Request?

2. What activities should the Commission consider deemphasizing in the fiscal year 2019 Operating Plan and/or the fiscal year 2020 Congressional Budget Request?

3. What retrospective review of rules should the Commission consider in the fiscal year 2019 Operating Plan and/or the fiscal year 2020 Congressional Budget Request?

4. The CPSC's programs will align with the strategic goals outlined in the CPSC's 2018-2022 Strategic Plan. The CPSC's fiscal year 2019 Budget Request, submitted to Congress on February 12, 2018, is based on four agency priorities: (1) Focusing the agency's resources on the highest-priority consumer product safety risks; (2) continuing to support import surveillance by incrementally developing the Risk Assessment Methodology (RAM) system to identify and stop noncompliant imported products from entering the U.S. marketplace; (3) emphasizing outreach and education by engaging all stakeholders through forums and workshops; and (4) expanding the sources and types of data analysis used to identify and assess product safety risks and inform compliance decisions. The Commission requests comments on the priorities as presented in the FY 2019 Budget Request. The CPSC's Budget Request for fiscal year 2019 can be found at: www.cpsc.gov/about-cpsc/agency-reports/performance-and-budget. The Commission also requests comments on whether the Commission should consider making any changes or adjustments to the agency's proposed or ongoing safety standards activities, regulation and enforcement efforts in fiscal years 2019 and 2020 (16 CFR 1009.8). Comments are welcome on whether particular action items should be higher priority than others, should not be included, or should be added to the fiscal year 2019 and/or fiscal year 2020 agendas.

Persons who desire to make oral presentations at the hearing on April 11, 2018 should send an email, call, or write Alberta E. Mills, Office of the Secretary, U.S. Consumer Product Safety Commission, 4330 East-West Highway, Bethesda, MD 20814; email: cpsc-os@cpsc.gov; telephone: (301) 504-7923; facsimile (301) 504-0127 not later than 5 p.m. EDT on March 28, 2018. Requests to make oral presentations and texts of the presentation must be received not later than 5 p.m. EDT on March 28, 2018. Presentations should be limited to approximately 10 minutes. The Commission reserves the right to impose further time limitations on all presentations and further restrictions to avoid duplication of presentations.

If you do not want to make an oral presentation, but would like to provide written comments, you may do so. Please submit written comments in the manner described in the previous paragraph. Written comments must be received no later than 5 p.m. EDT on March 28, 2018.

Alberta E. Mills,
Secretary, U.S. Consumer Product Safety Commission.

[FR Doc. 2018-04129 Filed 2-28-18; 8:45 am]

BILLING CODE 6355-01-P